DEPARTMENT OF TRANSPORTATION

Pipeline and Hazardous Materials Safety Administration

49 CFR Part 192

[Docket No. PHMSA-2013-0161]

Pipeline Safety: Class Location Requirements

AGENCY: Pipeline and Hazardous Materials Safety Administration, DOT.

ACTION: Notice of inquiry, extension of comment period.

SUMMARY: On August 1, 2013, PHMSA published a notice of inquiry in the Federal Register on “Class Location Requirements,” seeking comments on whether integrity management program (IMP) requirements, or elements of IMP, should be expanded beyond high consequence areas (HCA) and, with respect to gas transmission pipeline facilities, whether applying IMP requirements to additional areas would mitigate the need for class location requirements. PHMSA has received two requests to extend the comment period to allow stakeholders more time to evaluate the notice of inquiry. PHMSA concurs with this request and is extending the comment period from September 30, 2013, to November 1, 2013.

DATES: The comment period for the proposed rule published on August 1, 2013 (78 FR 46560), is extended. The closing date for filing comments is extended from September 30, 2013, to November 1, 2013.

ADDRESSES: Comments should reference Docket No. PHMSA-2013-0161. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC, between 9 a.m. and 5 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov, including any personal information provided. Please see the Privacy Act Statement heading below for additional information.

Privacy Act statement: Anyone may search the electronic form of all comments received for any of our dockets. You may review DOT's complete Privacy Act Statement in the Federal Register published April 11, 2000 (65 FR 19477).

FOR FURTHER INFORMATION CONTACT: Mike Israni at 202-366-4571 or by email at mike.israni@dot.gov.

SUPPLEMENTARY INFORMATION: On August 1, 2013, PHMSA issued a notice of inquiry (78 FR 46560), seeking public comment on whether applying the IMP requirements, or elements of IMP, to areas beyond current HCAs would mitigate the need for class location requirements for gas transmission pipelines. It should be noted that the notice dated August 1, 2013, was incorrectly identified as a “Notice of proposed rulemaking” instead of the correct identifier, “Notice of inquiry.”

The notice of inquiry was published in response to Section 5 of the Pipeline Safety, Regulatory Certainty, and Job Creation Act of 2011, which requires the Secretary of Transportation to evaluate and issue a report on whether IMP requirements should be expanded beyond HCAs and whether such expansion would mitigate the need for class location requirements.

The American Petroleum Institute (API) and American Gas Association (AGA), on September 23, 2013, and September 24, 2013, respectively, requested that PHMSA extend the notice comment period deadline from September 30, 2013, to November 1, 2013, to give API and AGA members enough time to share the notice with their membership and to collect their members' responses and comments for docket submission.

PHMSA concurs with API and AGA's request and is extending the comment period from September 30, 2013, to November 1, 2013. This extension will provide sufficient additional time for commenters to submit their comments.

Issued in Washington, DC, on September 25, 2013.
Alan K. Mayberry,
Deputy Associate Administrator for Policy and Programs.

[FR Doc. 2013-23798 Filed 9-27-13; 8:45 am]

BILLING CODE 4910-60-P